DEPARTMENT OF HOMELAND SECURITY

Coast Guard

[USCG-2007-29053]

Collection of Information Under Review by Office of Management and Budget: OMB Control Numbers: 1625-0024, 1625-0036, 1625-0061, and 1625-0100

AGENCY: Coast Guard, DHS.

ACTION: Thirty-day notice requesting comments.

SUMMARY: In compliance with the Paperwork Reduction Act of 1995, this request for comments announces that the U.S. Coast Guard is forwarding four Information Collection Requests (ICRs), abstracted below, to the Office of Information and Regulatory Affairs (OIRA) of the Office of Management and Budget (OMB) requesting an extension of their approval for the following collections of information:

(1) 1625-0024, Safety Approval of Cargo Containers; (2) 1625-0036, Plan Approval and Records for U.S. and Foreign Tank Vessels Carrying Oil in Bulk; (3) 1625-0061, Commercial Fishing Industry Vessel Safety Regulations; and (4) 1625-0100, Advance Notice of Vessel Arrival. Our ICRs describe the information we seek to collect from the public. Review and comments by OIRA ensure we only impose paperwork burdens commensurate with our performance of duties.

DATES: Please submit comments on or before February 25, 2008.

ADDRESSES: To make sure your comments and related material do not enter the Coast Guard docket [USCG-2007-29053] or OIRA more than once, please submit them by only one of the following means:

(1) Electronic submission. (a) To Coast Guard docket at http://www.regulations.gov. (b) To OIRA by e-mail to: nlesser@omb.eop.gov.

(2) Mail or Hand delivery. (a) To Docket Management Facility (M-30), U.S. Department of Transportation, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, to the attention of the Desk Officer for the Coast Guard.

(3) Fax. (a) To Docket Management Facility at 202-493-2251 (b) To: OIRA at 202-395-6566. To ensure your comments are received in time, mark the fax to the attention of Mr. Nathan Lesser, Desk Officer for the Coast Guard.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

Copies of complete ICRs are available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523 or fax 202-475-3929, for questions on these documents. Contact Ms. Renee V. Wright, Program Manager, Docket Operations, 202-366-9826, for questions on the docket.

SUPPLEMENTARY INFORMATION: The Coast Guard invites comments on whether these information collection requests should be granted based on it being necessary in the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to the Coast Guard or OIRA must contain the OMB Control Number of the ICRs addressed. Comments to the Coast Guard must contain the docket number [USCG 2007-29053]. For your comments to OIRA to be considered, it is best if OIRA receives them on or before the February 25, 2008.

Public participation and request for comments: We encourage you to respond to this request by submitting comments and related materials. We will post all comments received, without change, to http://www.regulations.gov. They will include any personal information you provide. We have an agreement with DOT to use their Docket Management Facility. Please see the paragraph on DOT's “Privacy Act Policy” below.

Submitting comments: If you submit a comment, please include the docket number [USCG-2007-29053]; indicate the specific section of the document to which each comment applies, providing a reason for each comment. We recommend you include your name, mailing address, an e-mail address, or other contact information in the body of your document so that we can contact you if we have questions regarding your submission. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

The Coast Guard and OIRA will consider all comments and material received during the comment period. We may change the documents supporting this collection of information or even the underlying requirements in view of them.

Viewing comments and documents: Go to http://www.regulations.gov to view documents mentioned in this notice as being available in the docket. Click on “Search for Dockets,” and enter the docket number (USCG-2007-29053) in the Docket ID box, and click enter. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://DocketsInfo.dot.gov.

Previous Request for Comments

This request provides a 30-day comment period required by OIRA. The Coast Guard has published the 60-day notice (72 FR 57053, October 5, 2007) required by 44 U.S.C. 3506(c)(2). That notice elicited no comments.

Information Collection Request

1. Title: Safety Approval of Cargo Containers.

OMB Control Number: 1625-0024.

Type of Request: Extension of a currently approved collection.

Affected Public: Owners and manufacturers of containers and organizations the Coast Guard delegates to act as an approval authority.

Abstract: This collection of information addresses the reporting/recordkeeping requirements for containers in 49 CFR parts 450 through 453. These rules are necessary since the U.S. is signatory to the International Convention for Safe Containers (CSC), which requires all containers to be safety approved prior to being used in trade. These rules prescribe only the minimum requirements of the CSC.

Burden Estimate: The estimated burden has increased from 73,272 hours to 105,920 hours a year.

2. Title: Plan Approval and Records for U.S. and Foreign Tank Vessels Carrying Oil in Bulk.

OMB Control Number: 1625-0036.

Type of Request: Extension of a currently approved collection.

Affected Public: Owners and operators of vessels.

Abstract: Section 3703 of 46 U.S.C. provides the Coast Guard with the authority to regulate design, construction, alteration, repair, maintenance, operation, equipping, personnel qualification, and manning of vessels carrying oil in bulk. See 33 CFR part 157, Rules for the Protection of the Marine Environment Relating to Tank Vessels Carrying Oil in Bulk, and 46 CFR chapter I, subchapter D, Tank Vessels.

Burden Estimate: The estimated burden has increased from 582 hours to 1,253 hours a year.

3. Title: Commercial Fishing Industry Vessel Safety Regulations.

OMB Control Number: 1625-0061.

Type of Request: Extension of a currently approved collection.

Affected Public: Owners, agents, individuals-in-charge of commercial fishing vessels, and insurance underwriters.

Abstract: Under the authority of 46 U.S.C. 6104, the Coast Guard has promulgated regulations in 46 CFR part 28 to improve the overall safety of commercial fishing industry vessels. The rules allowing the collection provide a means of verifying compliance and enhancing safe operation of fishing vessels.

Burden Estimate: The estimated burden has decreased from 7,720 hours to 5,917 hours a year.

4. Title: Advance Notice of Vessel Arrival.

OMB Control Number: 1625-0100.

Type of Request: Extension of a currently approved collection.

Affected Public: Vessel owners and operators.

Abstract: This information is required under 33 CFR part 160 subpart C to control vessel traffic, develop contingency plans, and enforce regulations.

Burden Estimate: The estimated burden has increased from 175,525 hours to 199,889 hours a year.

Dated: January 14, 2008.
D.T. Glenn,
Rear Admiral, U.S. Coast Guard, Assistant Commandant for Command, Control, Communications, Computers and Information Technology.

[FR Doc. E8-1132 Filed 1-23-08; 8:45 am]

BILLING CODE 4910-15-P